DEPARTMENT OF COMMERCE

International Trade Administration

[A-570-846]

Brake Rotors From the People's Republic of China: Final Results and Partial Rescission of Fifth New Shipper Review

AGENCY: Import Administration, International Trade Administration, Department of Commerce.

ACTION: Notice of final results and partial rescission of fifth new shipper review.

SUMMARY: On May 29, 2001, the Department of Commerce published the preliminary results and partial rescission of the fifth new shipper review of the antidumping duty order on brake rotors from the People's Republic of China. See Brake Rotors from the People's Republic of China: Preliminary Results and Partial Rescission of the Fifth New Shipper Review, 66 FR 29080 (May 29, 2001) (Preliminary Results). The new shipper review initially covered three respondents (see “Background” section below for further discussion). The period of review is April 1, 2000, through September 30, 2000. We gave interested parties an opportunity to comment on our preliminary results and submit additional publicly available information for consideration in the final results.

Based on the additional publicly available information submitted and the comments received from the interested parties, we have made changes in the margin calculations for two respondents in this review. The final weighted-average dumping margins for the reviewed firms in this review are listed below in the section entitled “Final Results of New Shipper Review.”

EFFECTIVE DATE: August 23, 2001.

FOR FURTHER INFORMATION CONTACT: Brian Smith or Terre Keaton, Import Administration, International Trade Administration, U.S. Department of Commerce, Washington, D.C. 20230; telephone: (202) 482-1766 or (202) 482-1280.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR part 351 (2000).

Background

On May 29, 2001, the Department published in the Federal Register the preliminary results and partial rescission of the fifth new shipper review of the antidumping duty order on brake rotors from the People's Republic of China (“PRC”) (66 FR 29080). On June 4, 2001, the petitioner ¹ requested an extension of time to submit publicly available information and rebuttal comments, and an extension of time to submit its case and rebuttal briefs in this review. On June 7, 2001, in response to the requests made by the petitioner, we provided all parties with another opportunity to submit publicly available information and to submit comments on this information for consideration in the final results, and an extension of time to submit case and rebuttal briefs. The petitioner submitted additional publicly available information on June 22, 2001. The respondents ² submitted comments and rebuttal publicly available information on June 29, 2001. The petitioner submitted its case brief on July 13, 2001. The respondents submitted their rebuttal brief on July 20, 2001.

¹ The petitioner is the Coalition for the Preservation of American Brake Drum and Rotor Aftermarket Manufacturers.

² The respondents in this review are Qingdao Meita Automotive Industry Co., Ltd. (“Meita”) and Shandong Laizhou Huanri Group General Co. (“Huanri General”).

The Department has conducted this review in accordance with section 751 of the Act.

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, our written description of the scope of this order is dispositive.

Partial Rescission of New Shipper Review

We are rescinding, in part, the fifth new shipper review with respect to Beijing Concord Auto Technology Inc. (“Concord”) because it failed to demonstrate at verification that it was entitled to a separate rate. Thus, we have treated it as part of the non-market economy (“NME”) entity. As part of the NME entity, Concord is not entitled to a rate as a new shipper, because the NME entity as a whole was subject to the less-than-fair-value (“LTFV”) investigation. Consequently, we have rescinded the new shipper review of Concord. See Preliminary Results, 66 FR at 29080, and “Issues and Decision Memorandum” (“Decision Memo”) from Richard W. Moreland, Deputy Assistant Secretary for Import Administration, to Faryar Shirzad, Assistant Secretary for Import Administration, dated August 17, 2001, for further discussion.

Analysis of Comments Received

All issues raised in the case briefs are addressed in the Decision Memo, which is hereby adopted by this notice. A list of the issues raised, all of which are in the Decision Memo, is attached to this notice as an Appendix. Parties can find a complete discussion of all issues raised in the briefs and the corresponding recommendations in this public memorandum which is on file in the Central Records Unit, room B-099 of the main Department building. In addition, a complete version of the Decision Memo can be accessed directly on the Web at http://ia.ita.doc.gov. The paper copy and electronic version of the Decision Memo are identical in content.

Changes Since the Preliminary Results

Based on the use of additional publicly available information and the comments received from the interested parties, we have made changes in the margin calculation for the two respondents that cooperated fully in the new shipper review. For a discussion of these changes, see the “Margin Calculations” section of the Decision Memo.

Final Results of New Shipper Review

We determine that the following weighted-average margin percentages exist for the period April 1, 2000, through September 30, 2000:

Exporter | Margin (percent)
Qingdao Meita Automotive Industry Co., Ltd. | 0.00
Shandong Laizhou Huanri Group General Co. | 0.00

Assessment Rates

The Department shall determine, and the Customs Service shall assess, antidumping duties on all appropriate entries. In accordance with 19 CFR 351.106(c)(2), we will instruct the Customs Service to liquidate without regard to antidumping duties all entries of subject merchandise during the POR from Meita and Huanri General for which the importer-specific assessment rate is zero or de minimis (i.e., less than 0.50 percent). In accordance with 19 CFR 351.212(b), we have calculated importer-specific ad valorem duty assessment rates. We will direct the Customs Service to assess the resulting percentage margin against the entered Customs values for the subject merchandise on each of that importer's entries under the relevant order during the review period.

Cash Deposit Requirements

The following deposit rates shall be required for merchandise subject to the order entered, or withdrawn from warehouse, for consumption on or after the publication date of these final results, as provided by section 751(a)(1) and 751(a)(2)(B) of the Act: (1) The cash deposit rates for Meita and Huanri General will be the rate indicated above; (2) the cash deposit rate for PRC exporters who received a separate rate in a prior segment of the proceeding will continue to be the rate assigned in that segment of the proceeding; (3) the cash deposit rate for the PRC NME entity (i.e., all other exporters, including Concord, which have not been reviewed) will continue to be 43.32 percent; and (4) the cash deposit rate for non-PRC exporters of subject merchandise from the PRC will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(2)(B) and 777(i) of the Act and 19 CFR 351.214.

Dated: August 17, 2001.
Bernard T. Carreau,
Acting Assistant Secretary for Import Administration.

Appendix—Issues in Decision Memo

Comments

1. Applying the Separate Rates Test to Beijing Concord

2. Applying the Separate Rates Test to Huanri General

3. Verification of Huanri General's Data

4. Considering the Use of Submitted Surrogate Values

5. Surrogate Value Selection for Steel Scrap

6. Surrogate Value Selection for Lug Bolts

7. Surrogate Value Selection for Firewood

[FR Doc. 01-21345 Filed 8-22-01; 8:45 am]

BILLING CODE 3510-DS-P